DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 2, 2025 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title:. Food Delivery Portal (FDP) Data Collection.

OMB Control Number: 0584-0401.

Summary of Collection: This is a revision of a currently approved information collection that was formerly titled “The Integrity Profile (TIP) Data Collection.” Under the Special Supplemental Nutrition Program for Women, Infants, and Children (WIC) program regulations at 7 CFR 246.12(j)(5). WIC State agencies administering the Special Supplemental Nutrition Program for Women, Infants, and Children (WIC) are required by 7 CFR 246.12(j)(5) to submit to FNS an annual summary of the results of their vendor monitoring efforts in order to provide Congress, senior FNS officials, as well as the public, assurance that every reasonable effort is being made to ensure integrity in the WIC Program. The number of WIC State agencies in fiscal year 2023 is 89. This includes 50 geographic State agencies, 33 State agencies operated by Indian Tribal Organizations, the District of Columbia, Puerto Rico, Guam, American Samoa, the Commonwealth of the Northern Mariana Islands, and the Virgin Islands. All WIC State agencies use the web-based system called Food Delivery Portal (FDP).

FDP is a robust data collection system which aligns with current security protocols and compliance guidance, supports data storage and web components, ensures cost effectiveness, allows for data-driven decision-making, has enhanced FNS reporting capabilities, reduces grantee burden through automated calculations and consolidated reporting, and adds data validation features to reduce reporting errors.

Need and Use of the Information: This is a mandatory collection, and the respondents are WIC State agencies. FNS uses the data for Federal oversight of the WIC Program and to ensure compliance with WIC Program regulations. Specifically, FNS uses the data in FDP to ensure that WIC State agencies are providing appropriate vendor training, consistently monitoring vendors for compliance with Program rules, conducting the required ratio of compliance investigations, and are applying the correct sanctions for any patterns of violations identified. FNS works with State agencies to address any discrepancies or anomalies in the data. Final WIC State agency data is aggregated by FNS at the national level, to generate nationwide reports and trend analysis. Additionally, FNS uses this data to provide information on WIC State agency vendor management and vendor compliance to stakeholders, including Congress, USDA's Office of the Inspector General (OIG), outside auditors, researchers, and the public.

Description of Respondents: State, Local, or Tribal Government.

Number of Respondents: 356.

Frequency of Responses: Reporting: Annually.

Total Burden Hours: 3,576.

Rachelle Ragland-Greene,
Departmental Information Collection Clearance Officer.

[FR Doc. 2024-28095 Filed 11-29-24; 8:45 am]

BILLING CODE 3410-30-P